DEPARTMENT OF COMMERCE

International Trade Administration

[A-570-886]

Polyethylene Retail Carrier Bags From the People's Republic of China: Preliminary Results of Antidumping Duty Administrative Review and Rescission of Review in Part; 2017-2018

AGENCY: Enforcement and Compliance, International Trade Administration, Department of Commerce.

SUMMARY: The Department of Commerce (Commerce) preliminarily determines that High Den Enterprises Ltd. (High Den) is not eligible for a separate rate and is a part of the China-wide entity. Interested parties are invited to comment on these preliminary results.

DATES: Applicable June 14, 2019.

FOR FURTHER INFORMATION CONTACT: Allison Hollander or Minoo Hatten, AD/CVD Operations, Office I, Enforcement and Compliance, International Trade Administration, U.S. Department of Commerce, 1401 Constitution Avenue NW, Washington, DC 20230; telephone: (202) 482-2805 or (202) 482-1690, respectively.

SUPPLEMENTARY INFORMATION:

Background

On August 9, 2004, Commerce published in the Federal Register an antidumping duty (AD) order on polyethylene retail carrier bags (PRCBs) from the People's Republic of China (China).¹ On August 7, 2018, Commerce published a notice of opportunity to request an administrative review of the AD order on PRCBs from China for the period of review (POR) August 1, 2017, through July 31, 2018.² Commerce received timely requests from the Polyethylene Retail Carrier Bag Committee and its individual members, Hilex Poly Co., LLC and Superbag Corporation (the petitioners), to conduct an administrative review of certain exporters. On October 4, 2018, Commerce published in the Federal Register a notice initiating an administrative review of the AD order on PRCBs from China covering Dongguan Nozawa Plastics Products Co., Ltd. and United Power Packaging, Ltd. (collectively, Nozawa); Crown Polyethylene Products (International) Ltd. (Crown) and High Den for the POR.³

¹ See Antidumping Duty Order: Polyethylene Retail Carrier Bags From the People's Republic of China, 69 FR 48201 (August 9, 2004).

² See Antidumping or Countervailing Duty Order, Finding, or Suspended Investigation; Opportunity To Request Administrative Review, 83 FR 38682 (August 7, 2018).

³ See Initiation of Antidumping and Countervailing Duty Administrative Reviews, 83 FR 50077 (October 4, 2018) (Initiation Notice).

We issued the AD questionnaire to the three respondents on October 18, 2018. On December 21, 2018, the petitioners timely withdrew their requests for review of Nozawa and Crown, pursuant to 19 CFR 351.213(d)(1).⁴ We confirmed that the questionnaire to High Den was delivered and received on October 22, 2018.⁵ High Den did not respond to the questionnaire and has filed no submissions on the record of this administrative review.

⁴ See the petitioners' Letter, “Polyethylene Retail Carrier Bags from the People's Republic of China: Partial Withdrawal of Request for Administrative Review,” dated December 21, 2018.

⁵ See Memorandum, “High Den Enterprises, Ltd., Receipt of Questionnaire,” dated December 13, 2018.

Commerce exercised its discretion to toll all deadlines affected by the partial federal government closure from December 22, 2018, through the resumption of operations on January 29, 2019.⁶ The revised deadline for the preliminary results in this review is now June 12, 2019.

⁶ See Memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding affected by the partial federal government closure have been extended by 40 days. If the new deadline falls on a non-business day, in accordance with Commerce's practice, the deadline will become the next business day.

Partial Rescission of Administrative Review

Pursuant to 19 CFR 351.213(d)(1), Commerce will rescind an administrative review, “in whole or in part, if a party that requested a review withdraws the request within 90 days of the date of publication of notice of initiation of the requested review.” The petitioners withdrew their request for review within the 90-day time limit with respect to Nozawa and Crown. Because we received no other requests for review of Nozawa and Crown, we are rescinding the administrative review, in part, with respect to Nozawa and Crown, pursuant to 19 CFR 351.213(d)(1).

Scope of the Order

The products subject to the AD order on PRCBs from China, are PRCBs, which may be referred to as t-shirt sacks, merchandise bags, grocery bags, or checkout bag. Imports of the subject merchandise are currently classifiable under statistical category 3923.21.0085 of the Harmonized Tariff Schedule of the United States (HTSUS). This subheading also covers products that are outside the scope of the order. Furthermore, although the HTSUS subheading is provided for convenience and customs purposes, our written description of the scope of the order is dispositive. For a complete description of the scope of the Order, see the Preliminary Decision Memorandum.

China-Wide Entity

Under Commerce's current policy regarding the conditional review of the China-wide entity, the China-wide entity will not be under review unless a party specifically requests, or Commerce self-initiates, a review of the entity.⁷ Because no party requested a review of the China-wide entity in this review, the entity is not under review and the entity's rate is not subject to change (i.e., 77.57 percent).⁸ Because High Den did not respond to the questionnaire, Commerce preliminarily determines that High Den is not eligible for a separate rate and is a part of the China-wide entity.

⁷ See Antidumping Proceedings: Announcement of Change in Department Practice for Respondent Selection in Antidumping Duty Proceedings and Conditional Review of the Nonmarket Economy Entity in NME Antidumping Duty Proceedings, 78 FR 65963 (November 4, 2013).

⁸ See Notice of Amended Final Determination of Sales at Less than Fair Value: Polyethylene Retail Carrier Bags From the People's Republic of China, 69 FR 42419 (July 15, 2004).

Methodology

Commerce is conducting this review in accordance with section 751(a)(1)(B) of the Tariff Act of 1930, as amended (the Act). For a full description of the methodology underlying our conclusions, see the Preliminary Decision Memorandum. The Preliminary Decision Memorandum is a public document and is on file electronically via Enforcement and Compliance's Antidumping and Countervailing Duty Centralized Electronic Service System (ACCESS). ACCESS is available to registered users at http://access.trade.gov and to all parties in the Central Records Unit, Room B8024 of the main Commerce building. In addition, a complete version of the Preliminary Decision Memorandum can be accessed directly on the internet at http://enforcement.trade.gov/frn/index.html.

Preliminary Results of Review

Because High Den is not eligible for a separate rate and is a part of the China-wide entity, the pre-existing China-wide rate of 77.57 percent will apply to entries of High Den's subject merchandise into the United states during the POR.

Disclosure

Normally, Commerce discloses to interested parties the calculations performed in connection with a preliminary results of review within five days after public announcement of the preliminary results of review in accordance with 19 CFR 351.224(b). Because Commerce preliminarily denied the separate rate eligibility for the sole mandatory respondent in this review and treated it as part of the China-wide entity, there are no calculations to disclose.

Public Comment

Pursuant to 19 CFR 351.309(c), interested parties may submit case briefs no later than 30 days after the date of publication of these preliminary results of review.⁹ Parties who submit case briefs or rebuttal briefs in this proceeding are encouraged to submit with each argument: (1) A statement of the issue; (2) a brief summary of the argument; and (3) a table of authorities.¹⁰ Rebuttal briefs, limited to issues raised in the case briefs, may be filed no later than five days after the case briefs are filed.¹¹

⁹ See 19 CFR 351.309(c)(2).

¹⁰ See 19 CFR 351.309(c)(2).

¹¹ See 19 CFR 351.309(d).

Interested parties who wish to request a hearing must submit a written request to the Assistant Secretary for Enforcement and Compliance, U.S. Department of Commerce, filed electronically using ACCESS. An electronically filed document must be received successfully in its entirety by Commerce's ACCESS by 5:00 p.m. Eastern Time within 30 days after the date of publication of this notice.¹² Hearing requests should contain: (1) The party's name, address, and telephone number; (2) the number of participants; and (3) a list of issues to be discussed. Issues raised in the hearing will be limited to those raised in the respective case briefs. Unless extended, Commerce intends to issue the final results of this review, including the results of its analysis of issues raised by parties in their comments, within 120 days after the publication of these preliminary results, pursuant to section 751(a)(3)(A) of the Act and 19 CFR 351.213(h)(1).

¹² See 19 CFR 351.310(c).

Assessment Rates

Upon issuing the final results of review, Commerce will determine, and CBP shall assess, antidumping duties on all appropriate entries covered by this review.¹³ If the preliminary results are unchanged for the final results, we will instruct CBP to apply an ad valorem assessment rate of 77.57 percent to all entries of subject merchandise during the POR which were exported by High Den. Commerce intends to issue appropriate assessment instructions directly to CBP 15 days after publication of the final results of review.

¹³ See 19 CFR 351.212(b)(1).

Cash Deposit Requirements

The following cash deposit requirements will be effective upon publication of the final results of this administrative review for shipments of the subject merchandise from China entered, or withdrawn from warehouse, for consumption on or after the publication date of this notice, as provided by section 751(a)(2)(C) of the Act: (1) For previously investigated or reviewed Chinese and non-Chinese exporters of subject merchandise that received a separate rate in a prior segment of this proceeding, the cash deposit rate will continue to be the existing exporter specific rate published for the most recently completed period; (2) for all Chinese exporters of subject merchandise that have not been found to be entitled to a separate rate, i.e., High Den, the cash deposit rate will be the China-wide rate of 77.57 percent; and (3) for all non-Chinese exporters of subject merchandise which have not received their own rate, the cash deposit rate will be the rate applicable to the Chinese exporter that supplied that non-Chinese exporter. These deposit requirements, when imposed, shall remain in effect until further notice.

Notification to Importers

This notice serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

We are issuing and publishing these results in accordance with sections 751(a)(1) and 777(i)(1) of the Act and 19 CFR 351.213(h)(1).

Notification to Interested Parties

These preliminary results and partial rescission of administrative review are issued and published in accordance with sections 751(a)(1) and 777(i)(1) of the Act and 19 CFR 351.213(h)(1).

Dated: June 6, 2019.
Jeffrey I. Kessler,
Assistant Secretary for Enforcement and Compliance.

Appendix

List of Topics Discussed in the Preliminary Decision Memorandum

I. Summary

II. Background

III. Scope of the Order

IV. Rescission of Administrative Review in Part

V. Discussion of the Methodology

A. Non-Market Economy Country Status

B. Separate Rates

VI. Recommendation

[FR Doc. 2019-12607 Filed 6-13-19; 8:45 am]

BILLING CODE 3510-DS-P